Proclamation 8716 of September 16, 2011

National Farm Safety and Health Week, 2011

By the President of the United States of America

A Proclamation

The food, fiber, and fuel generated by our agricultural sector are vital to America’s 21st-century economy. Farmers represent the best of the American dream—passing on proud traditions of hard work and commitment to their children. This week, we celebrate farmers’ contributions to the fabric of our Nation as they cultivate the products that sustain us, serve as stewards of our environment, and stand as the backbone of communities across our country.

The self-discipline and determination of farm communities have allowed them to persevere through drought, storms, and hard times, always emerging strong and vibrant. Each day, our farmers, ranchers, and agricultural workers face multiple dangers. They work with heavy machinery, livestock, and toxic materials, and in potentially dangerous environments like grain elevators and processing facilities. Physically demanding and all-encompassing, farm work requires the resourcefulness and grit that has been essential to our Nation’s success. This week, we pay tribute to the tremendous work ethic of America’s farmers, and encourage safe farm practices for all.

Supporting farmers, ranchers, and growers is critical to creating and sustaining a thriving economy. My Administration has worked to create new markets for these products, and to provide assistance to farms, supporting jobs across our country. We continue to work to make capital more accessible and help aspiring young farmers buy land. Farms are critical to achieving our goal of doubling our exports, and American agricultural exports are now worth over $100 billion a year. They are also the source of biofuels that will help lead us to energy independence. My Administration is working to speed the development of next-generation biofuels, and their production will benefit farmers, rural communities, and Americans across our country.

As the fall harvest begins, I encourage farm and ranch families to embrace safe farming practices and to participate in farm safety and health programs. Communities and neighbors can support local farmers by understanding the risks involved with farm work and the role everyone can play in preventing and responding to accidents. We are grateful for the fruits of every farmer’s labor, and we honor their tireless dedication to the well-being of their families and our Nation.

NOW, THEREFORE, I, BARACK OBAMA, President of the United States of America, by virtue of the authority vested in me by the Constitution and the laws of the United States, do hereby proclaim September 18 through September 24, 2011, as National Farm Safety and Health Week. I call upon the agencies, organizations, businesses, and extension services that serve America’s agricultural workers to strengthen their commitment to promoting farm safety and health programs. I also urge Americans to honor our agricultural heritage and express appreciation to our farmers, ranchers, and farm-workers for their remarkable contributions to our Nation.

IN WITNESS WHEREOF, I have hereunto set my hand this sixteenth day of September, in the year of our Lord two thousand eleven, and of the Independence of the United States of America the two hundred and thirty-sixth.

[FR Doc. 2011-24445

Filed 9-20-11; 11:15 am]

Billing code 3195-W1-P